DEPARTMENT OF HEALTH AND HUMAN SERVICES

Health Resources and Services Administration

Advisory Committee; Notice of Meeting

Pursuant to section 10(d) of the Federal Advisory Committee Act, as amended (5 U.S.C. Appendix 2), notice is hereby given of the following Health Professions and Nurse Education Special Emphasis Panel meetings.

Name: Geriatric Nursing Knowledge and Experiences in Long Term Care Facilities for Baccalaureate Nursing Students Peer Review Group.

Date and Time: November 13-14, 2000.

Place: Holiday Inn Silver Spring, 8777 Georgia Avenue, Silver Spring, MD 20910.

Open on: November 13, 2000, 8 a.m. to 10 a.m.

Closed on: November 13, 2000, 10 a.m. to 6 p.m., November 14, 2000, 8 a.m. to 6 p.m.

Name: Residencies in the Practice of Pediatric Dentistry and Residencies and Advanced Training in the Practice of General Dentistry Peer Review Group.

Date and Time: December 4-7, 2000.

Place: Holiday Inn Silver Spring, 8777 Georgia Avenue, Silver Spring, MD 20910.

Open on: December 4, 2000, 8 a.m. to 10 a.m.

Closed on: December 4, 2000, 10 a.m. to 6 p.m.; December 5-7, 2000, 8 a.m. to 6 p.m.

Name: Residencies Training in Primary Care (Family Medicine, General Internal Medicine/General Pediatrics) Peer Review Group I.

Date and Time: December 11-14, 2000.

Place: Holiday Inn Silver Spring, 8777 Georgia Avenue, Silver Spring, MD 20910.

Open on: December 11, 2000, 8 a.m. to 10 a.m.

Closed on: December 11, 2000, 10 a.m. to 6 p.m., December 12-14, 2000, 8 a.m. to 6 p.m.

Name: Residencies Training in Primary Care (Family Medicine, General Internal Medicine/General Pediatrics) Peer Review Group II.

Date and Time: January 8-11, 2001.

Place: Holiday Inn Silver Spring, 8777 Georgia Avenue, Silver Spring, MD 20910.

Open on: January 8, 2001, 8 a.m. to 10 a.m.

Closed on: January 8, 2001, 10 a.m. to 6 p.m., January 9-11, 2001, 8 a.m. to 6 p.m.

Name: Preventive Medicine Residency Programs Peer Review Group.

Date and Time: January 8-11, 2001.

Place: Holiday Inn Silver Spring, 8777 Georgia Avenue, Silver Spring, MD 20910.

Open on: January 16, 2001, 8 a.m. to 10 a.m.

Closed on: January 16, 2001, 10 a.m. to 6 p.m., January 17-19, 2001, 8 a.m. to 6 p.m.

Name: Faculty Development Training in Primary Care (Family Medicine, General Internal Medicine/General Pediatrics) Peer Review Group.

Date and Time: January 22-25, 2001.

Place: Holiday Inn Silver Spring, 8777 Georgia Avenue, Silver Spring, MD 20910.

Open on: January 22, 2001, 8 a.m. to 10 a.m.

Closed on: January 22, 2001, 10 a.m. to 6 p.m., January 23-25, 2001, 8 a.m. to 6 p.m.

Name: Podiatric Residency Training in Primary Care Peer Review Group.

Date and Time: February 5, 2001.

Place: Holiday Inn Silver Spring, 8777 Georgia Avenue, Silver Spring, MD 20910.

Open on: February 5, 2001, 8 a.m. to 10 a.m.

Closed on: February 5, 2001, 10 a.m. to 6 p.m.

Name: Predoctoral Training in Primary Care (Family Medicine, General Internal Medicine/General Pediatrics) Peer Review Group.

Date and Time: February 26-March 1, 2001.

Place: Holiday Inn Silver Spring, 8777 Georgia Avenue, Silver Spring, MD 20910.

Open on: February 26, 2001, 8 a.m. to 10 a.m.

Closed on: February 26, 2001, 10 a.m. to 6 p.m., February 27-March 1, 2001, 8 a.m. to 6 p.m.

Name: Nursing Workforce Diversity Program Peer Review Group.

Date and Time: March 5-8, 2001.

Place: Holiday Inn Silver Spring, 8777 Georgia Avenue, Silver Spring, MD 20910.

Open on: March 5, 2001, 8 a.m. to 10 a.m.

Closed on: March 5, 2001, 10 a.m. to 6 p.m., March 6-8, 2001, 8 a.m. to 6 p.m.

Name: Centers of Excellence Peer Review Group.

Date and Time: March 12-15, 2001.

Place: Holiday Inn Silver Spring, 8777 Georgia Avenue, Silver Spring, MD 20910.

Open on: March 12, 2001, 8:00 a.m. to 10:00 a.m.

Closed on: March 12, 2001, 10:00 a.m. to 6:00 p.m.; March 13-15, 2001, 8:00 a.m. to 6:00 p.m.

Name: Public Health Training Centers Peer Review Group.

Date and Time: March 12-15, 2001.

Place: Holiday Inn Silver Spring, 8777 Georgia Avenue, Silver Spring, MD 20910.

Open on: March 12, 2001, 8:00 a.m. to 10:00 a.m.

Closed on: March 12, 2001, 10:00 a.m. to 6:00 p.m.; March 13-15, 2001, 8:00 a.m. to 6:00 p.m.

Name: Academic Administrative Units in Primary Care (Family Medicine, General Internal Medicine/General Pediatrics) Peer Review Group.

Date and Time: March 26-29, 2001.

Place: Holiday Inn Silver Spring, 8777 Georgia Avenue, Silver Spring, MD 20910.

Open on: March 26, 2001, 8:00 a.m. to 10:00 a.m.

Closed on: March 26, 2001, 10:00 a.m. to 6:00 p.m.; March 27-29, 2001, 8:00 a.m. to 6:00 p.m.

Name: Geriatric Training Regarding Physicians and Dentists Peer Review Group.

Date and Time: March 26-29, 2001.

Place: Holiday Inn Silver Spring, 8777 Georgia Avenue, Silver Spring, MD 20910.

Open on: March 26, 2001, 8:00 a.m. to 10:00 a.m.

Closed on: March 26, 2001, 10:00 a.m. to 6:00 p.m.; March 27-29, 2001, 8:00 a.m. to 6:00 p.m.

Name: Basic/Area Health Education Centers Peer Review Group.

Date and Time: April 2-3, 2001.

Place: Holiday Inn Silver Spring, 8777 Georgia Avenue, Silver Spring, MD 20910.

Open on: April 2, 2001, 8:00 a.m. to 10:00 a.m.

Closed on: April 2, 2001, 10:00 a.m. to 6:00 p.m.; April 3, 2001, 8:00 a.m. to 6:00 p.m.

Name: Model/Area Health Education Centers Peer Review Group.

Date and Time: April 4-5, 2001.

Place: Holiday Inn Silver Spring, 8777 Georgia Avenue, Silver Spring, MD 20910.

Open on: April 4, 2001, 8:00 a.m. to 10:00 a.m.

Closed on: April 4, 2001, 10:00 a.m. to 6:00 p.m.; April 5, 2001, 8:00 a.m. to 6:00 p.m.

Name: Allied Health Project Grants Peer Review Group.

Date and Time: April 17-20, 2001.

Place: Holiday Inn Silver Spring, 8777 Georgia Avenue, Silver Spring, MD 20910.

Open on: April 17, 2001, 8:00 a.m. to 10:00 a.m.

Closed on: April 17, 2001, 10:00 a.m. to 6:00 p.m.; April 18-20, 2001, 8:00 a.m. to 6:00 p.m.

Name: Grants for Physician Assistant Training Peer Review Group.

Date and Time: April 17-20, 2001.

Place: Holiday Inn Silver Spring, 8777 Georgia Avenue, Silver Spring, MD 20910.

Open on: April 17, 2001, 8:00 a.m. to 10:00 a.m.

Closed on: April 17, 2001, 10:00 a.m. to 6:00 p.m.; April 18-20, 2001, 8:00 a.m. to 6:00 p.m.

Name: Health Careers Opportunity Program Peer Review Group.

Date and Time: April 23-26, 2001.

Place: Holiday Inn Silver Spring, 8777 Georgia Avenue, Silver Spring, MD 20910.

Open on: April 23, 2001, 8:00 a.m. to 10:00 a.m.

Closed on: April 23, 2001, 10:00 a.m. to 6:00 p.m.; April 24-26, 2001, 8:00 a.m. to 6:00 p.m.

Name: Advanced Education Nursing Peer Review Group I.

Date and Time: April 30-May 3, 2001.

Place: Holiday Inn Silver Spring, 8777 Georgia Avenue, Silver Spring, MD 20910.

Open on: April 30, 2001, 8:00 a.m. to 10:00 a.m.

Closed on: April 30, 2001, 10:00 a.m. to 6:00 p.m.; May 1-3, 2001, 8:00 a.m. to 6:00 p.m.

Name: Advanced Education Nursing Peer Review Group II.

Date and Time: May 7-10, 2001.

Place: Holiday Inn Silver Spring, 8777 Georgia Avenue, Silver Spring, MD 20910.

Open on: May 7, 2001, 8:00 a.m. to 10:00 a.m.

Closed on: May 7, 2001, 10:00 a.m. to 6:00 p.m.; May 8-10, 2001, 8:00 a.m. to 6:00 p.m.

Name: Advanced Education Nursing Peer Review Group III.

Date and Time: May 14-17, 2001.

Place: Holiday Inn Silver Spring, 8777 Georgia Avenue, Silver Spring, MD 20910.

Open on: May 14, 2001, 8:00 a.m. to 10:00 a.m.

Closed on: May 14, 2001, 10:00 a.m. to 6:00 p.m.; May 15-17, 2001, 8:00 a.m. to 6:00 p.m.

Name: Basic Nurse Education and Practice Program Peer Review Group.

Date and Time: May 21-24, 2001.

Place: Holiday Inn Silver Spring, 8777 Georgia Avenue, Silver Spring, MD 20910.

Open on: May 21, 2001, 8:00 a.m. to 10:00 a.m.

Closed on: May 21, 2001, 10:00 a.m. to 6:00 p.m.; May 22-24, 2001, 8:00 a.m. to 6:00 p.m.

Purpose: The Health Professions and Nurse Education Special Emphasis Panel shall advise the Associate Administrator for Health Professions on the technical merit of grants to improve the training, distribution, utilization, and quality of personnel required to staff the Nation's health care delivery system.

Agenda: The open portion of each meeting will cover welcome and opening remarks, financial management and legislative implementation updates, and overview of the review process. The meetings will be closed at approximately 10:00 a.m. on the first day of each meeting until adjournment for the review of grant applications. The closing is in accordance with the provision set forth in section 552b(c)(6), Title 5 U.S. Code, and the Determination by the Associate Administrator for Management and Program Support, Health Resources and Services Administration, pursuant to Public Law 92-463.

Anyone wishing to obtain a roster of members or other relevant information should write or contact Ms. Jennifer Burks, Director, Office of Extramural Program Review, Bureau of Health Professions, Parklawn Building, Room 8C-23, 5600 Fishers Lane, Rockville, Maryland 20857, telephone 301-443-6339.

Dated: October 4, 2000.
Jane M. Harrison,
Director, Division of Policy Review and Coordination.

[FR Doc. 00-26024 Filed 10-10-00; 8:45 am]

BILLING CODE 4160-15-P